NATIONAL ARCHIVES AND RECORDS ADMINISTRATION

[NARA-2017-043]

Agency Information Collection Activities: Proposed Collection; Comment Request

AGENCY: National Archives and Records Administration (NARA).

ACTION: Notice of proposed extension request.

SUMMARY: The Office of Management and Budget (OMB) previously approved this information collection form for a period of three years. We plan to request an extension from OMB of that approval for another three years. This information collection gathers information from private foundations or other entities involved in funding, building, and transferring Presidential library facilities to NARA, and aids us in designing, constructing, and equipping the library. We invite you to comment on this proposed information collection pursuant to the Paperwork Reduction Act of 1995.

DATES: We must receive written comments on or before July 24, 2017.

ADDRESSES: Send comments to Paperwork Reduction Act Comments (ID), Room 4400; National Archives and Records Administration; 8601 Adelphi Road; College Park, MD 20740-6001, fax them to 301-713-7409, or email them to tamee.fechhelm@nara.gov.

FOR FURTHER INFORMATION CONTACT: Contact Tamee Fechhelm by telephone at 301-837-1694 or by fax at 301-713-7409 with requests for additional information or copies of the proposed information collection and supporting statement.

SUPPLEMENTARY INFORMATION: Pursuant to the Paperwork Reduction Act of 1995 (Pub. L. 104-13), NARA invites the public and other Federal agencies to comment on proposed information collections. The comments and suggestions should address one or more of the following points: (a) Whether the proposed information collection is necessary for NARA to properly perform its functions; (b) NARA's estimate of the burden of the proposed information collection and its accuracy; (c) ways NARA could enhance the quality, utility, and clarity of the information it collects; (d) ways NARA could minimize the burden on respondents of collecting the information, including through information technology; and (e) whether this collection affects small businesses. We will summarize any comments you submit and include the summary in our request for OMB approval. All comments will become a matter of public record. In this notice, we solicit comments concerning the following information collection:

Title: Presidential Library Facilities.

OMB number: 3095-0036.

Agency form number: None.

Type of review: Regular.

Affected public: Presidential library foundations or other entities proposing to transfer a Presidential library facility to NARA.

Estimated number of respondents: 1.

Estimated time per response: 40 hours.

Frequency of response: On occasion.

Estimated total annual burden hours: 40 hours.

Abstract: The information collection is required for NARA to meet its obligations under 44 U.S.C. 2112(a)(3) to submit a report to Congress before accepting a new Presidential library facility. The report contains information that can be furnished only by the foundation or other entity responsible for building the facility and establishing the library endowment.

Swarnali Haldar,
Executive for Information Services/CIO.

[FR Doc. 2017-10648 Filed 5-23-17; 8:45 am]

BILLING CODE 7515-01-P